NATIONAL SCIENCE FOUNDATION

Agency Information Collection Activities; National Survey of College Graduates

ACTION: Correction.

SUMMARY: The National Science Foundation (NSF) published a document in the Federal Register of September 4, 2024, concerning a request for public comment on the 2025 National Survey of College Graduates with the wrong survey title.

Corrections

In the Federal Register published September 4, 2024, in FR Doc. 2024-19850 (Filed 9-3-24), on page 71938, first column, under SUPPLEMENTARY INFORMATION: Title of Collection, please change the title to 2025 National Survey of College Graduates. All other details remain unchanged.

Dated: September 4, 2024.
Suzanne H. Plimpton,
Reports Clearance Officer, National Science Foundation.

[FR Doc. 2024-20233 Filed 9-6-24; 8:45 am]

BILLING CODE 7555-01-P